DEPARTMENT OF ENERGY

[Number DE-PS36-02GO92001]

Industrial Assessment Centers Field Manager

AGENCY: Golden Field Office, Department of Energy (DOE).

ACTION: Notice of solicitation for financial assistance applications.

SUMMARY: The Department of Energy's Office of Industrial Technologies (OIT) is seeking applications for the Industrial Assessment Center (IAC) Program Technical Field Manager. The IAC program enables eligible small and medium-sized manufacturers to have comprehensive industrial assessments performed at no cost to the manufacturer. Teams of engineering faculty and students from the Centers, located at 26 universities around the country, conduct energy audits or industrial assessments and provide recommendations to manufacturers to help them identify opportunities to improve productivity, reduce waste, and save energy. These Centers are selected under a separate DOE solicitation and administered through individual cooperative agreements directly with DOE. The IAC program is guided by technical field management working under policy guidelines established by DOE. This procurement will be for one technical field manager to assist DOE in monitoring and managing the program nationally. For further information on the IAC program visit www.oit.doe.gov/iac.

DATES: DOE expects to issue the solicitation on or about February 1, 2002. The deadline for receipt of applications will be on or about 3:00 pm Mountain Time on March 29, 2002.

ADDRESSES: The formal solicitation document will be disseminated electronically as Solicitation Number DE-PS36-02GO92001, Industrial Assessment Center Field Manager, through the Industry Interactive Procurement System (IIPS) located at the following URL: http://e-center.doe.gov. IIPS provides the medium for disseminating solicitations, receiving financial assistance applications, and evaluating the applications in a paperless environment. Completed applications are required to be submitted via IIPS. Individuals who have the authority to enter their company into a legally binding contract/agreement and intend to submit proposals/applications via the IIPS system must register and receive confirmation that they are registered prior to being able to submit an application on the IIPS system. An IIPS “User Guide for Contractors” can be obtained by going to the IIPS Homepage at the URL noted above and then clicking on the “Help” button. Questions regarding the operation of IIPS may be e-mailed to the IIPS Help Desk at IIPS_HelpDesk@e-center.doe.gov or call the help desk at (800) 683-0751.

FOR FURTHER INFORMATION CONTACT: Jim Damm, Contract Specialist, at go_iac@nrel.gov

SUPPLEMENTARY INFORMATION: The field management organization sought in this solicitation will: (1) Provide coordination and technical facilitation of the 26 schools (Centers) participating in the IAC Program; (2) monitor the technical performance of each individual center and provide for technical training and support; (3) integrate and coordinate the IAC program with the mission and broader activities of the Office of Industrial Technologies; (4) revamp existing IAC database; and (5) maintain the new IAC database.

The Golden Field Office has been assigned the responsibility of issuing the solicitation and administering the award. DOE will award one cooperative agreement as a result of this solicitation. The award will be incrementally funded. The initial budget period will be one year, with the possibility of 4 one-year continuations depending upon availability of funds and satisfactory performance. Estimated funding for the first year is $1,000,000.

Issued in Golden, Colorado on January 22, 2002.
Jerry Zimmer,
Director, Office of Acquisition and Financial Assistance, Golden Field Office.

[FR Doc. 02-3192 Filed 2-8-02; 8:45 am]

BILLING CODE 6450-01-P